DEPARTMENT OF COMMERCE

National Oceanic and Atmospheric Administration

[RTID 0648-XF469]

North Pacific Fishery Management Council; Public Meeting

AGENCY: National Marine Fisheries Service (NMFS), National Oceanic and Atmospheric Administration (NOAA), Commerce.

ACTION: Notice of hybrid conference; meetings of the North Pacific Fishery Management Council and its advisory committees.

SUMMARY: The North Pacific Fishery Management Council (Council) and its advisory committees will meet February 2, 2026, through February 11, 2026.

DATES: The Council's Scientific and Statistical Committee (SSC) will begin at 8 a.m. on Monday, February 2, 2026, and continue through Wednesday, February 4, 2026. The Council's Advisory Panel (AP) will begin at 8 a.m. on Monday, February 2, 2026, and continue through Saturday, February 7, 2026. The Council will begin at 8 a.m. on Thursday, February 5, 2026, and continue through Wednesday, February 11, 2026. All listed times are Alaska Time.

ADDRESSES: The meetings will be a hybrid conference. The in-person component of the meeting will be held at the Egan Center, 555 W 5th Ave., Anchorage, AK 99501, or join the meeting online through the links at https://www.npfmc.org/current-or-next-council-meeting.

Council address: North Pacific Fishery Management Council, 1007 W 3rd Ave, Suite 400, Anchorage, AK 99501-2252; telephone: (907) 271-2809. Instructions for attending the meeting via web conference are given under FOR FURTHER INFORMATION CONTACT, below.

FOR FURTHER INFORMATION CONTACT: Diana Evans, Council staff; email: devans@npfmc.org; telephone: (907) 271-2809. For technical support please contact our Council administrative staff, email: support@npfmc.org.

SUPPLEMENTARY INFORMATION:

Agenda

Monday, February 2, 2026, Through Wednesday, February 4, 2026

The SSC agenda will include the following issues:

(1) Administrative Issues

(2) Review Gulf of Alaska (GOA) Pacific Cod Assessment, Recommend Over Fishing Limit (OFL)/Acceptable Biological Catch (ABC)/Total Allowable Catch (TAC)

(3) Alaska Fisheries Science Center (AFSC) Report on National Prioritization (Council reviewed in December 2025)

(4) Planning for 2026 Groundfish Stock Assessment Cycle

(5) Review Cook Inlet Salmon Stock Assessment and Fishery Evaluation (SAFE) Report, Recommend Over Fishing Limit (OFL)/Acceptable Biological Catch (ABC)/Total Allowable Catch (TAC)

(6) Essential Fish Habitat (EFH) 5-Year Review Workplan (Council reviewed in December 2025)

(7) Progress on Developing Alternative Harvest Control Rules (HCRs)—Review Workshop, Plan Team Reports

The agenda is subject to change, and the latest version will be posted at https://meetings.npfmc.org/Meeting/Details/3117 prior to the meeting, along with meeting materials.

In addition to providing ongoing scientific advice for fishery management decisions, the SSC functions as the Council's primary peer review panel for scientific information, as described by the Magnuson-Stevens Act section 302(g)(1)(e), and the National Standard 2 guidelines (July 19, 2013, 78 FR 43066). The peer-review process is also deemed to satisfy the requirements of the Information Quality Act, including the OMB Peer Review Bulletin guidelines.

Monday, February 2, 2026, Through Saturday, February 7, 2026

The Advisory Panel agenda will include the following issues:

(1) Administrative Issues

(2) Chum Salmon Bycatch—Final action

(3) Staff Tasking

Thursday, February 5, 2026, Through Wednesday, February 11, 2026

The Council agenda will include the following issues. The Council may take appropriate action on any of the issues identified.

(1) Administrative Issues

(2) Reports: Executive Director, NMFS Management Report, NOAA General Counsel (GC), Alaska Fisheries Science Center (AFSC), Alaska Department of Fish and Game (ADF&G), United States Coast Guard (USCG), United States Fish and Wildlife Service (USFWS), International Pacific Halibut Commission (IPHC), North Pacific Research Board (NPRB), Scientific and Statistical Committee (SSC) Report, Advisory Panel (AP) Report

(3) GOA Pacific cod—Review Assessment, Recommend OFL/ABC/TAC

(4) Chum Salmon Bycatch—Final action

(5) Cook Inlet Salmon—Review Assessments and Analysis, Recommend OFL/ABC/TAC

(6) Staff Tasking

The agenda is subject to change, and the latest version will be posted at https://meetings.npfmc.org/Meeting/Details/3116 prior to the meeting, along with meeting materials.

Connection Information

You can attend the meeting online using a computer, tablet, or smart phone; or by phone only. Connection information will be posted online at: https://www.npfmc.org/upcoming-council-meetings. For technical support please contact our administrative staff, email: support@npfmc.org.

Public Comment

Public comment letters will be accepted and should be submitted electronically through the links at https://www.npfmc.org/current-or-next-council-meeting/. The Council strongly encourages written public comment for this meeting, to avoid any potential for technical difficulties to compromise oral testimony. The written comment period is open from December 12, 2025, and closes at 12 p.m. Alaska Time on Friday, January 30, 2026.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

(Authority: 16 U.S.C. 1801 et seq.)

Dated: January 8, 2026.
Rey Israel Marquez,
Acting Deputy Director, Office of Sustainable Fisheries, National Marine Fisheries Service.

[FR Doc. 2026-00393 Filed 1-9-26; 8:45 am]

BILLING CODE 3510-22-P